DEPARTMENT OF AGRICULTURE

Submission for OMB Review; Comment Request

April 16, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Scrapie in Sheep and Goats; Interstate Movement Restrictions and Indemnity Program.

OMB Control Number: 0579-0101.

Summary Of Collection: Under the Farm Security and Rural Investment Act of 2002, Pub. L. 107-71, subtitle E, Animal Health Protection, Section 10401-10418, the Secretary of Agriculture, in order to protect the agriculture, environment, economy, and health and welfare of the people of the United States by preventing, detecting, controlling, and eradicating diseases and pests of animal, is authorized to cooperate with foreign countries, States, and other jurisdictions, or other person, to prevent and eliminate burdens on interstate commerce and foreign commerce, and to regulate effectively interstate commerce and foreign commerce. Scrapie is a progressive, degenerative and eventually fatal disease affecting the central nervous system of sheep and goats. Its control is complicated because the disease has an extremely long incubation period without clinical signs of disease, and there is no test for the disease and or known treatment. The Animal and Plant Health Inspection Service (APHIS) restricts the interstate movement of certain sheep and goats to help prevent the spread of scrapie. APHIS has regulations at 9 CFR part 54 for an indemnity program to compensate owners of sheep and goats destroyed because of scrapie.

Need and Use of the Information: APHIS will collect information using cooperative agreements; applications from owners to participate in the Scrapie Flock Certification Program; post-exposure management and monitoring plans; scrapie test records; application for indemnity payments; certificates, permits, and owner statements for the interstate movement of certain sheep and goats; application for premises identification numbers; and applications for APHIS-approved eartags, backtags, or tattoos, etc. Without this information APHIS' efforts to more aggressively prevent the spread of scrapie would be severely hindered.

Description of Respondents: Farms; Business or other for-profit; State, Local, or Tribal Government.

Number of Respondents: 131,911.

Frequency of Responses: Recordkeeping; Reporting: On occasion.

Total Burden Hours: 670,455.

Animal and Plant Health Inspection Service

Title: Customer/Stakeholder Satisfaction Surveys.

OMB Control Number: 0579-NEW.

Summary of Collection: Collection and dissemination of animal health data and information is mandated by 7 U.S.C. 391, the Animal Industry Act of 1884, which established the precursor of the Animal and Plant Health Inspection Service (APHIS), Veterinary Services, the Bureau of Animal Industry. The collection, analysis and dissemination of livestock and poultry health information on a national basis are consistent with the APHIS mission of protecting and improving American agriculture's productivity and competitiveness. The National Animal Health Monitoring System (NAHMS) program relies heavily on producer and industry support. The NAHMS Program is committed to improving the value of studies for producers and industry, reducing the burden of these studies on respondents, and developing timely information of value to the American public. As part of this commitment, the NAHMS is seeking approval to perform customer/stakeholder satisfaction surveys for participants of NAHMS studies, user of NAHMS information as well as recipients of the U.S. Animal Health Report. Therefore, NAHMS needs to collect this type of feedback from producer and other to enhance future studies and ensure that the informational products are meeting their needs.

Need and Use of the Information: The information collected through the surveys will be analyzed and used for internal program adjustments and to tailor future NAHMS studies and reports. The potential benefit to the industry from these surveys is feedback to improve the program, laboratory services and informational products by gathering relevant and timely information and opinion on the content and method of program or service delivery.

Description of Respondents: Business or other for-profit.

Number of Respondents: 35,700.

Frequency of Responses: Reporting; On occasion.

Total Burden Hours: 2,471.

Ruth Brown,
Departmental Information Collection Clearance Officer.

[FR Doc. E8-8644 Filed 4-21-08; 8:45 am]

BILLING CODE 3410-34-P